NATIONAL FOUNDATION ON THE ARTS AND THE HUMANITIES

National Endowment for the Arts; Arts Advisory Panel

Pursuant to Section 10(a)(2) of the Federal Advisory Committee Act (Pub. L. 92-463), as amended, notice is hereby given that 10 meetings of the Arts Advisory Panel to the National Council on the Arts will be held at the Nancy Hanks Center, 1100 Pennsylvania Avenue, NW., Washington, DC, 20506 as follows (ending times are approximate):

National Initiatives/The Big Read (application review): October 25, 2006 by teleconference. This meeting, from 2 p.m. to 4 p.m., will be closed.

Presenting (application review): October 30-31, 2006 in Room 716. This meeting, from 9 a.m. to 6 p.m. on October 30th and from 9 a.m. to 4 p.m. on October 31st, will be closed.

Presenting (application review): November 1-3, 2006 in Room 716. This meeting, from 9 a.m. to 5:30 p.m. on November 1st and 2nd, and from 9 a.m. to 3:45 p.m. on November 3rd, will be closed.

Media Arts (application review): November 1-3, 2006 in Room 730. This meeting, from 9 a.m. to 5:30 p.m. on November 1st, from 9 a.m. to 6 p.m. on November 2nd, and from 9 a.m. to 3 p.m. on November 3rd, will be closed.

Musical Theater (application review): November 2-3, 2006 in Room 714. This meeting, from 9 a.m. to 6 p.m. on November 2nd and from 9 a.m. to 5 p.m. on November 3rd, will be closed.

Music (application review): November 13-15, 2006 in Room 714. This meeting, from 9 a.m. to 6 p.m. on November 13th and 14th, and from 9 a.m. to 2:30 p.m. on November 15th, will be closed.

Local Arts Agencies (application review): November 14-15, 2006 in Room 716. This meeting, from 9 a.m. to 5:30 p.m. on November 14th and from 9 a.m. to 12 p.m. on November 15th, will be closed.

Learning in the Arts (application review): November 20-21, 2006 in Room 716. A portion of this meeting, from 1:30 p.m. to 2:15 p.m. on November 21st, will be open to the public for a policy discussion. The remainder of the meeting, from 9 a.m. to 5:30 p.m. on November 20th and from 9 a.m. to 1:30 p.m. and from 2:15 p.m. to 3 p.m. on November 21st, will be closed.

Visual Arts (application review): November 28-December 1, 2006 in Room 716. This meeting, from 9 a.m. to 5:30 p.m. on November 28-30 and from 9 a.m. to 2 p.m. on December 1st, will be closed.

AccessAbility/Universal Design (application review): November 30, 2006 by teleconference. This meeting, from 2 p.m. to 4 p.m., will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: October 3, 2006
Kathy Plowitz-Worden,
Panel Coordinator, Panel Operations, National Endowment for the Arts.

[FR Doc. E6-16640 Filed 10-6-06; 8:45 am]

BILLING CODE 7537-01-P